DEPARTMENT OF VETERANS AFFAIRS

Veterans' Rural Health Advisory Committee

Notice of Meeting

The Department of Veterans Affairs (VA) gives notice under the Federal Advisory Committee Act, 5 U.S.C. App. 2, that the Veterans Rural Health Advisory Committee will meet on April 21-22, 2015, in Room 156, at the VA Medical Center, 17273 State Route 104, Chillicothe, Ohio from 8:30 a.m. to 5 p.m. on both days. The meeting is open to the public.

The purpose of the Committee is to advise the Secretary of Veterans Affairs on health care issues affecting enrolled Veterans residing in rural areas. The Committee examines programs and policies that impact the provision of VA health care to enrolled Veterans residing in rural areas, and discusses ways to improve and enhance VA services for these Veterans.

The agenda will include updates from the Committee Chairman and the Director of the Veterans Health Administration (VHA) Office of Rural Health (ORH), as well as presentations on general health care access and quality topics.

Public comments will be received at 4:30 p.m. on April 22, 2015. Interested parties should contact Mr. Elmer D. Clark, by mail at 810 Vermont Avenue, Mail Code 10P1R, Washington, DC 20420, or via email at VRHAC@va.gov, or by fax at (202) 632-8609. Individuals scheduled to speak are invited to submit a 1-2 page summary of their comments for inclusion in the official meeting record.

Dated: March 27, 2015.
Rebecca Schiller,
Committee Management Officer.

[FR Doc. 2015-07509 Filed 4-1-15; 8:45 am]

BILLING CODE CODE 8320-01-P